DEPARTMENT OF THE TREASURY

Internal Revenue Service

26 CFR Part 1

[TD 9262]

RIN 1545-BF57

Computer Software Under Section 199(c)(5)(B); Correction

AGENCY: Internal Revenue Service (IRS), Treasury.

ACTION: Correction to temporary regulations.

SUMMARY: This document contains a correction to temporary regulations (TD 9262) that were published in the Federal Register on Thursday, June 1, 2006 (71 FR 31074) concerning the application of section 199 of the Internal Revenue Code, which provides a deduction for income attributable to domestic production activities, to certain transactions involving computer software.

DATES: These corrections are effective June 1, 2006.

FOR FURTHER INFORMATION CONTACT: Paul Handleman or Lauren Ross Taylor, (202) 622-3040 (not a toll-free number).

SUPPLEMENTARY INFORMATION:

Background

The correction notice that is the subject of this document is under section 199 of the Internal Revenue Code.

Need for Correction

As published, the correction notice (TD 9262) contains errors that may prove to be misleading and are in need of clarification.

Correction of Publication

Accordingly, the publication of the temporary regulations (TD 9262), which was the subject of FR Doc. 06-4828, is corrected as follows:

1. On page 31075, column 1, in the preamble, under the paragraph heading “Qualified Production Activities Income,” first paragraph of the column, line 3, the language “mean: (A) Tangible personal property;” is corrected to read “mean: (A) tangible personal property;”.

2. On page 31075, column 1, in the preamble, under the paragraph heading “Summary of Comments”, last paragraph of the column, line 16, the language “include: (1) Whether an agreement” is corrected to read “include: (1) whether an agreement”.

3. On page 31075, column 3, in the preamble, under the paragraph heading “Explanation of Provisions”, first paragraph of the column, line 11, the language “applies if a taxpayer that derives gross” is corrected to read “applies if a taxpayer derives gross”.

4. On page 31076, column 1, in the preamble, under the paragraph heading “Effective Date”, first paragraph of the column, line 4, the language “regulations expires on or before May 25,” is corrected to read “regulations expires on or before May 22,”.

5. On page 31077, column 2, in the signature block, the language “Mark E. Mathews,” is corrected to read “Mark E. Matthews,”.

Guy R. Traynor,
Chief, Publications and Regulations Branch, Legal Processing Division, Associate Chief Counsel (Procedure and Administration).

[FR Doc. E6-10248 Filed 6-28-06; 8:45 am]

BILLING CODE 4830-01-P